NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 18, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-026

1. Applicant: Captain Brandon Savory, 662 Ash St., Prescott AZ, 86305.

Activity for Which Permit is Requested: Waste management. The applicant seeks an Antarctic Conservation Act permit for a planned yacht-based expedition to the Antarctic Peninsula Region aboard the vessel Cool Changes. Activities include shore landings, photography, and wildlife viewing. Designated pollutants that would be generated during the trip include air emissions, wastewater (urine, grey water) and solid waste (food waste, human solid waste, and packaging materials). Human waste and grey water will be kept onboard for disposal at port. If disposal at sea is necessary during the voyage, these wastes would be disposed of in offshore waters, complying with the provisions of Article 5 of Annex III and Article 6 of Annex IV of MARPOL Protocol. Food waste will either be macerated and discharged at least 12 miles from shore or ice shelves or stored aboard the vessel for disposal at port. All other solid waste and garbage will be stored aboard the vessel for disposal at port.

Location: Antarctic Peninsula Region.

Dates of Permitted Activities: January 7, 2022-March 30, 2026.

Erika N. Davis,
Program Specialist, Office of Polar Programs.

[FR Doc. 2021-27209 Filed 12-15-21; 8:45 am]

BILLING CODE 7555-01-P